Title 3—

The President

Proclamation 8328 of December 8, 2008

Human Rights Day, Bill of Rights Day, And Human Rights Week, 2008

By the President of the United States of America

A Proclamation

The United States was founded on the principle that government must respect people's rights to speak freely, worship as they choose, and pursue their dreams in liberty. As we remember the enduring importance of our Constitution's Bill of Rights, our thoughts turn to those who have yet to secure these precious liberties. During Human Rights Day, Bill of Rights Day, and Human Rights Week, Americans celebrate the rights bestowed upon all by our Creator and reaffirm our deep commitment to helping those whose desire for liberty and justice is still dismissed and denied.

In a free society, every person is treated with dignity and can rise as high as their talents and hard work will take them. Yet in countries like Belarus, Burma, Cuba, Iran, North Korea, Sudan, Syria, and Zimbabwe, fervent pleas for freedom are silenced by tyranny and oppression. So long as there are people who fight for liberty, the United States will stand with them and speak out for those who have no other voice.

Freedom is the eternal birthright of all mankind, and during Human Rights Day, Bill of Rights Day, and Human Rights Week, we renew our commitment to lead the cause of human rights and pray for the day when the light of liberty will shine on all of humanity.

NOW, THEREFORE, I, GEORGE W. BUSH, President of the United States of America, by virtue of the authority vested in me by the Constitution and laws of the United States, do hereby proclaim December 10, 2008, as Human Rights Day; December 15, 2008, as Bill of Rights Day; and the week beginning December 10, 2008, as Human Rights Week. I call upon the people of the United States to mark these observances with appropriate ceremonies and activities.

IN WITNESS WHEREOF, I have hereunto set my hand this eighth day of December, in the year of our Lord two thousand eight, and of the Independence of the United States of America the two hundred and thirty-third.

[FR Doc. E8-29704

Filed 12-11-08; 11:15 am]

Billing code 3195-W9-P